DEPARTMENT OF HOMELAND SECURITY

Coast Guard

33 CFR Part 151

[Docket No. USCG-2004-19621]

RIN 1625-AA89

Dry Cargo Residue Discharges in the Great Lakes

AGENCY: Coast Guard, DHS.

ACTION: Final rule; information collection approval.

SUMMARY: The Coast Guard announces that it has received approval from the Office of Management and Budget for an information collection request associated with the January 2014 final rule on the discharge of bulk dry cargo residue on the U.S. waters of the Great Lakes. With this approval, all provisions of the final rule are now fully in effect and can be enforced. The final rule promotes the Coast Guard's maritime safety and stewardship missions.

DATES: The requirements of 33 CFR 151.66(b)(5), published in the Federal Register on January 31, 2014 (79 FR 5261), will be enforceable beginning September 15, 2014.

FOR FURTHER INFORMATION CONTACT: For information about this document call or email Rich Walter, Coast Guard; telephone 202-372-3856, email Richard.W.Walter@uscg.mil. For information about viewing or submitting material to the docket, call Cheryl Collins, Program Manager, Docket Operations, telephone 202-366-9826, toll free 1-800-647-5527.

SUPPLEMENTARY INFORMATION: On January 31, 2014, the Coast Guard published a final rule titled “Dry Cargo Residue Discharges in the Great Lakes.” ¹ In this final rule, the Coast Guard implemented new requirements related to the operation of U.S. and foreign vessels carrying bulk dry cargo such as limestone, iron ore, and coal on the U.S. waters of the Great Lakes, and the operation of U.S. bulk dry cargo vessels anywhere on the Great Lakes.

¹ 79 FR 5261 (Jan. 31, 2014).

Our final rule delayed the effective date of 33 CFR 151.66(b)(5) because it contains collection of information provisions that require approval from the Office of Management and Budget (OMB) under the Paperwork Reduction Act of 1995, 44 U.S.C. 3501-3520. On August 5, 2014, OMB approved the collection and assigned OMB Control Number 1625-0072. Accordingly, we announce that section 151.66(b)(5) is enforceable from September 15, 2014. The approval for this collection of information expires on August 31, 2017. This action completes the rulemaking associated with RIN 1625-AA89 and USCG-2004-19621.

This document is issued under the authority of 5 U.S.C. 552(a).

Dated: September 5, 2014.
J.G. Lantz
Director of Commercial Regulations and Standards, U.S. Coast Guard.

[FR Doc. 2014-21893 Filed 9-12-14; 8:45 am]

BILLING CODE 9110-04-P